FEDERAL RETIREMENT THRIFT INVESTMENT BOARD

Privacy Act of 1974; Systems of Records

AGENCY: Federal Retirement Thrift Investment Board.

ACTION: Notice of retirement of systems of records, revision of routine uses, revision of purpose and routine uses, technical revisions to systems of records, and establishment of new systems of records.

SUMMARY: Pursuant to the Privacy Act of 1974, 5 U.S.C. 552a, the Federal Retirement Thrift Investment Board (FRTIB) is proposing to: (1) Retire one system of records; (2) revise the purpose and routine uses of three existing systems of records; and (3) establish four new systems of records. The revisions implemented under this republication are corrective and administrative changes that broaden previously published system of records notices.

DATES: Comments must be received on or before March 11, 2016 unless comments received on or before that date result in a contrary determination.

ADDRESSES: You may submit written comments to FRTIB by any one of the following methods:

• Federal eRulemaking Portal: http://www.regulations.gov. Follow the Web site instructions for submitting comments.

• Fax: 202-942-1676.

• Mail or Hand Delivery: Office of General Counsel, Federal Retirement Thrift Investment Board, 77 K Street NE., Suite 1000, Washington, DC 20002.

FOR FURTHER INFORMATION CONTACT: Marla Greenberg, Chief Privacy Officer, Federal Retirement Thrift Investment Board, Office of General Counsel, 77 K Street NE., Suite 1000, Washington, DC 20002, 202-864-8612. For access to any of the FRTIB's systems of records, contact Amanda Haas, FOIA Officer, Office of General Counsel, at the above address or by calling (202) 637-1250.

SUPPLEMENTARY INFORMATION:

(1) FRTIB Is Proposing To Retire One System of Records

Pursuant the Privacy Act of 1974, 5 U.S.C. 552a, and as part of its ongoing integration efforts, the Federal Retirement Thrift Investment Board is retiring one system of records notice: FRTIB-8, Board Member Files (last published at 77 FR 11534 (February 27, 2012)).

FRTIB will continue to collect and maintain records about FRTIB's Board Members, however, each of these records will be maintained as part of an existing FRTIB or Government-wide SORN. Ethics opinions, conflicts of interest waivers, and other programmatic files concerning Board Members will be maintained as part of Public and Confidential Financial Disclosure Reports and other ethics program records and will rely upon the existing government-wide systems of records entitled OGE/GOVT-1, Executive Branch Personnel Public Financial Disclosure Reports and Other Name-Retrieved Ethics Program Records (68 FR 24722, May 8, 2003). The FRTIB will maintain Confidential Financial Disclosure Reports (OGE Form 450) for FRTIB's Board Members pursuant to OGE/GOVT-2, Executive Branch Confidential Financial Disclosure Reports (68 FR 24722, May 8, 2003). Eliminating this notice will have no adverse impact on individuals, but will promote the overall streamlining and management of FRTIB's Privacy Act record systems.

(2) FRTIB Is Proposing To Revise the Purpose of and Routine Uses to Three Systems of Records, and To Make Technical and Clarifying Changes to These Systems of Records

(a) FRTIB-7, Contractor and Consultant Records

FRTIB is proposing to revise the purpose of and routine uses to FRTIB-7, Contractor and Consultant Records (last published at 77 FR 11534 (February 27, 2012)). FRTIB is proposing to amend the purpose as follows: “The purpose of this system of records is to collect and maintain records on FRTIB contractors and consultants.” FRTIB is also proposing technical amendments to the purpose of the system to reflect the fact that the system of records deals with sensitive FRTIB information.

FRTIB is proposing to add a routine use to this system of records to enable the Agency to disclose information to the United States Department of the Treasury to effect payments to consultants or to verify their eligibility to receive payment. FRTIB is also proposing to apply General Routine Uses G1 through G2; and G4 through G16 to FRTIB-7, Contractor and Consultant Records (see Prefatory Statement of Routine Uses).

FRTIB is proposing to correct and update the system name; system location; categories of individuals covered by the system; categories of records in the system; authority for maintenance of the system; purpose; routine uses; storage; retrievability; safeguards; retention and disposal; system manager and address; notification procedure; record access procedures; contesting records procedures; record source categories; and exemptions claimed for the system. FRTIB will no longer exempt FRTIB-7, Contractor and Consultant Records, under subsections (k)(2) and (k)(5) of the Privacy Act.

(b) FRTIB-12, Debt Collection Records

FRTIB is proposing to revise the purpose of and routine uses to FRTIB-12, Debt Collection Records (last published at 77 FR 11534 (February 27, 2012)). FRTIB is proposing to clarify the purpose to cover the following types of individuals who could be indebted to the FRTIB: “participants, beneficiaries, and alternate payees of the Thrift Savings Plan; current and former employees of the FRTIB; individuals who are consultants and vendors to FRTIB; and individuals who received payments to which they are not entitled.”

FRTIB is also proposing to reorder the routine uses for FRTIB-12, Debt Collection Records (this change is being made to all existing systems of records to the extent necessary to make all of FRTIB's notices uniform and to reflect the addition of FRTIB's general routine uses). FRTIB is proposing to add one system-specific routine use, to enable the Agency to disclose administrative wage garnishment information to the United States Department of the Treasury. Additionally, FRTIB is proposing to apply and sixteen general routine uses to apply to FRTIB-12, including G1 through G16 (see Prefatory Statement of Routine Uses).

FRTIB is proposing to correct and update the system name; system location; categories of individuals covered by the system; categories of records in the system; authority for maintenance of the system; purpose; routine uses; disclosure to consumer reporting agencies; storage; retrievability; safeguards; retention and disposal; system manager and address; notification procedure; record access procedures; contesting records procedures; and record source categories.

(c) FRTIB-13, Fraud and Forgery Records

FRTIB is proposing to make technical and clarifying revisions to FRTIB-13, Fraud and Forgery Records (last published at 80 FR 43428 (July 22, 2015)). The FRTIB is planning to clarify that the purpose of the system includes an act of fraud relating to the Thrift Savings Fund.

FRTIB is also proposing to revise the system-specific routine use 2, to enable the Agency to disclose information used to verify allegations that a third party has misappropriated the FRTIB's (or TSP's) name, brand, or logos, to the Federal Trade Commission; Consumer Financial Protection Bureau; or the Financial Industry Regulatory Authority. Additionally, FRTIB is proposing to make technical revisions to system-specific routine use 4, to clarify that this routine use also includes fraud or forgery committed against the Thrift Savings Fund. Finally, FRTIB is proposing to correct and update the categories of records in the system; purpose; and routine uses.

(3) FRTIB Is Proposing To Create Four new Systems of Records

(a) FRTIB-16—Congressional Correspondence Files

FRTIB is proposing to establish a new system of records entitled, “FRTIB-16, Congressional Correspondence Files.” The proposed system of records is necessary to assist the FRTIB's Office of External Affairs in maintaining, and responding to correspondence received from congressional offices.

Records maintained as part of FRTIB-16 include information about individuals who have corresponded with FRTIB: Name; dates of birth; Social Security numbers; TSP account; numbers; home and business address; email address; personal and business telephone numbers; who the correspondence is about; incoming correspondence; FRTIB's response; the FRTIB responder's name and business information; additional unsolicited personal information provided by the individual; and other related materials. FRTIB is proposing to add two system-specific routine uses and fourteen general routine uses to apply to FRTIB-16, including G1 through G2; G4 through G5; and G7 through G16 (see Prefatory Statement of Routine Uses).

(b) FRTIB-17—Telework and Alternative Worksite Records

FRTIB is proposing to establish a new system of records entitled, “FRTIB-17, Telework and Alternative Worksite Records.” The proposed system of records is necessary to enable the FRTIB to collect and maintain records on prospective, current, and former FRTIB employees who have participated in, presently participate in, or have sought to participate in FRTIB's Telework Program.

Files maintained as part of FRTIB-17 include: The name, position title, grade level, job series, and office name; official FRTIB duty station address and telephone number; alternative worksite address and telephone number(s); date telework agreement received and approved/denied; telework request and approval form; telework agreement; self-certification home safety checklist, and supervisor-employee checklist; type of telework requested (e.g., situational or core); regular work schedule; telework schedule; approvals/disapprovals; description and list of government-owned equipment and software provided to the teleworker; mass transit benefits received through FRTIB's mass transit subsidy program; parking subsidies received through FRTIB's subsidized parking program; and any other miscellaneous documents supporting telework.

FRTIB is proposing to add five system-specific routine uses and fourteen general routine uses to apply to FRTIB-17, including G1 through G2; G4 through G5; and G7 through G16 (see Prefatory Statement of Routine Uses).

(c) FRTIB-18—Reasonable Accommodation Records

FRTIB is proposing to establish a new system of record entitled, “FRTIB-18, Reasonable Accommodation Records.” The proposed system of records is necessary to allow FRTIB to collect and maintain records on prospective, current, and former employees with disabilities who request or receive a reasonable accommodation by FRTIB. The proposed system of records will also enable FRTIB to track and report the processing of requests for FRTIB-wide reasonable accommodations to comply with applicable laws and regulations. Finally, this system of records will enable FRTIB to preserve and maintain the confidentiality of medical information submitted by or on behalf of applicants or employees requesting a reasonable accommodation.

Files maintained as part of FRTIB-18 include: The name and employment of employees needing an accommodation; requestor's name and contact information (if different than the employee who needs an accommodation); date request was initiated; information concerning the nature of the disability and the need for accommodation, including appropriate medical documentation; details of the accommodation request, such as: Type of accommodation requested, how the requested accommodation would assist in job performance, the sources of technical assistance consulted in trying to identify alternative reasonable accommodation, any additional information provided by the requestor related to the processing of the request, and whether the request was approved or denied, and whether the accommodation was approved for a trial period; and notification(s) to the employee and his/her supervisor(s) regarding the accommodation.

FRTIB is proposing to add five system-specific routine uses and fifteen general routine uses to apply to FRTIB-18, including G1 through G5; and G7 through G16 (see Prefatory Statement of Routine Uses).

(d) FRTIB-19—Freedom of Information Act Records

FRTIB is proposing to establish a new system of record entitled, “FRTIB-19, Freedom of Information Act Records.” The proposed system of records will enable the FRTIB to support the processing of record access requests made pursuant to the Freedom of Information Act (FOIA), whether FRTIB receives such requests directly from the requestor or via referral from another agency. Additionally, this system will be used to support litigation arising from such requests and appeals, and to assist FRTIB in carrying out any other responsibilities under the FOIA.

Files maintained as part of FRTIB-19 include: Records received, created, or compiled in processing FOIA requests or appeals, including original requests and appeals; intra- or inter-agency memoranda; referrals; correspondence notes; fee schedules; assessments; cost calculations; and other documentation related to the referral and/or processing of the FOIA request or appeal; correspondence with the individuals or entities that submitted the requests; and copies of requested records. Additionally, the type of information in the records may include requestors' and their attorneys' or representatives' contact information; the contact information of FRTIB employees; the name of the individual subject of the request or appeal; fee determinations; unique case identifier; and other identifiers provided by a requestor about him or herself or about the individual whose records are requested.

FRTIB is proposing to add three system-specific routine uses and fifteen general routine uses to apply to FRTIB-19, including G1 through G2; and G4 through G16 (see Prefatory Statement of Routine Uses).

(4) Prefatory Statement of General Routine Uses

The following routine uses are incorporated by reference into various systems of records, as set forth below.

G1. Routine Use—Audit: A record from this system of records may be disclosed to an agency, organization, or individual for the purpose of performing an audit or oversight operations as authorized by law, but only such information as is necessary and relevant to such audit or oversight function when necessary to accomplish an agency function related to this system of records. Individuals provided information under this routine use are subject to the same Privacy Act requirements and limitations on disclosure as are applicable to FRTIB officers and employees.

G2. Routine Use—Breach Mitigation and Notification: A record from this system of records may be disclosed to appropriate agencies, entities, and persons when: (1) FRTIB suspects or has confirmed that the security or confidentiality of information in the system of records has been compromised; (2) FRTIB has determined that as a result of the suspected or confirmed compromise there is a risk of harm to economic or property interests, identity theft or fraud, or harm to the security or integrity of this system or other systems or programs (whether maintained by FRTIB or another agency or entity) that rely upon the compromised information; and (3) the disclosure made to such agencies, entities, and persons is reasonably necessary to assist in connection with the FRTIB's efforts to respond to the suspected or confirmed compromise and prevent, minimize, or remedy such harm.

G3. Routine Use—Clearance Processing: A record from this system of records may be disclosed to an appropriate federal, state, local, tribal, foreign, or international agency, if the information is relevant and necessary to a requesting agency's decision concerning the hiring or retention of an individual, or issuance of a security clearance, background investigation, license, contract, grant, or other benefit, or if the information is relevant and necessary to a FRTIB decision concerning the hiring or retention of an employee, the issuance of a security clearance, the reporting of an investigation of an employee, the letting of a contract, or the issuance of a license, grant or other benefit and when disclosure is appropriate to the proper performance of the official duties of the person making the request.

G4. Routine Use—Congressional Inquiries: A record from this system of records may be disclosed to a Congressional office from the record of an individual in response to an inquiry from that Congressional office made at the request of the individual to whom the record pertains.

G5. Routine Use—Contractors, et al.: A record from this system of records may be disclosed to contractors, grantees, experts, consultants, the agents thereof, and others performing or working on a contract, service, grant, cooperative agreement, or other assignment for FRTIB, when necessary to accomplish an agency function related to this system of records. Individuals provided information under this routine use are subject to the same Privacy Act requirements and limitations on disclosure as are applicable to FRTIB officers and employees.

G6. Routine Use—Debt Collection: A record from this system of records may be disclosed to the Department of Justice, the Department of Treasury, or to a consumer reporting agency for collection action on any delinquent debt, pursuant to 5 U.S.C. 552a(b)(12).

G7. Routine Use—Former Employees: A record from this system of records may be disclosed to a former employee of the FRTIB, in accordance with applicable regulations, for purposes of responding to an official inquiry by a federal, state, or local government entity or professional licensing authority; or facilitating communications with a former employee that may be necessary for personnel-related or other official purposes where the FRTIB requires information or consultation assistance from the former employee regarding a matter within that person's former area of responsibility.

G8. Routine Use—Investigations, Third Parties: A record from this system of records may be disclosed to third parties during the course of a law enforcement investigation to the extent necessary to obtain information pertinent to the investigation, provided disclosure is appropriate to the proper performance of the official duties of the third party officer making the disclosure.

G9. Routine Use—Investigations, Other Agencies: A record from this system of records may be disclosed to appropriate federal, state, local, tribal, or foreign government agencies or multilateral governmental organizations for the purpose of investigating or prosecuting the violations of, or for enforcing or implementing, a statute, rule, regulation, order, license, or treaty where FRTIB determines that the information would assist in the enforcement of civil or criminal laws.

G10. Routine Use—Law Enforcement Intelligence: A record from this system of records may be disclosed to a federal, state, tribal, local, or foreign government agency or organization, or international organization, lawfully engaged in collecting law enforcement intelligence information, whether civil or criminal, or charged with investigating, prosecuting, enforcing or implementing civil or criminal laws, related rules, regulations or orders, to enable these entities to carry out their law enforcement responsibilities, including the collection of law enforcement intelligence.

G11. Routine Use—Law Enforcement Referrals: A record from this system of records may be disclosed to an appropriate federal, state, tribal, local, international, or foreign agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

G12. Routine Use—Litigation, DOJ or Outside Counsel: A record from this system of records may be disclosed to the Department of Justice, FRTIB's outside counsel, other federal agency conducting litigation or in proceedings before any court, adjudicative or administrative body, when: (1) FRTIB, or (2) any employee of FRTIB in his or her official capacity, or (3) any employee of FRTIB in his or her individual capacity where DOJ or FRTIB has agreed to represent the employee, or (4) the United States or any agency thereof, is a party to the litigation or has an interest in such litigation, and FRTIB determines that the records are both relevant and necessary to the litigation and the use of such records is compatible with the purpose for which FRTIB collected the records.

G13. Routine Use—Litigation, Opposing Counsel: A record from this system of records may be disclosed to a court, magistrate, or administrative tribunal in the course of presenting evidence, including disclosures to opposing counsel or witnesses in the course of civil discovery, litigation, or settlement negotiations or in connection with criminal law proceedings or in response to a subpoena.

G14. Routine Use—NARA/Records Management: A record from this system of records may be disclosed to the National Archives and Records Administration (NARA) or other federal government agencies pursuant to the Federal Records Act.

G15. Routine Use—Redress: A record from this system of records may be disclosed to a federal, state, tribal, local, international, or foreign government agency or entity for the purpose of consulting with that agency or entity: (1) To assist in making a determination regarding redress for an individual in connection with the operations of a FRTIB program; (2) for the purpose of verifying the identity of an individual seeking redress in connection with the operations of a FRTIB program; or (3) for the purpose of verifying the accuracy of information submitted by an individual who has requested such redress on behalf of another individual.

G16. Routine Use—Security Threat: A record from this system of records may be disclosed to federal and foreign government intelligence or counterterrorism agencies when FRTIB reasonably believes there to be a threat or potential threat to national or international security for which the information may be useful in countering the threat or potential threat, when FRTIB reasonably believes such use is to assist in anti-terrorism efforts, and disclosure is appropriate to the proper performance of the official duties of the person making the disclosure.

G17. Routine Use—Testing: A record from this system of records may be disclosed to appropriate federal, state, local, tribal, or foreign governmental agencies or multilateral governmental organizations where FRTIB is aware of a need to utilize relevant data for purposes of testing new technology and systems designed to enhance security or identify other violations of law.

Pursuant to 5 U.S.C. 552a(e)(11), interested persons are invited to submit written comments on the proposal of these two systems of records. A report on the proposed systems has been sent to Congress and the Office of Management and Budget for their awareness.

Greg Long,
Executive Director, Federal Retirement Thrift Investment Board.

FRTIB-7

System Name:

Contractor and Consultant Records.

Security Classification:

None.

System Location:

Records are located at the Federal Retirement Thrift Investment Board, 77 K Street NE., Suite 1000, Washington, DC 20002. Records may be kept at an additional location for Business Continuity Purposes.

Categories of Individuals Covered by the System:

Individuals retained by formal agreement, who: (1) Provide consulting services to the Board; (2) act as advisors to the Board, but do not maintain the independence of action necessary to meet the requirements for classification as an independent contractor; and (3) any other individuals who receive payments from FRTIB.

Categories of Records in the System:

Acquisition data for the procurement of goods and services, including, but not limited to: Documents, letters, memorandum of understanding relating to agreements; rates of pay; payment records; vouchers; invoices; selection information; Commercial and Government Entity (CAGE) codes; Dun and Bradstreet Data Universal Numbering System (DUNS) numbers; supplier status; Web site; name; address; taxpayer identification number; Social Security numbers; bank information; invoice data; resumes; SAC forms; and other information relating to the disbursement of funds. This system of records also contains information pertaining to the negotiation; implementation; scope; and performance of work.

Authority for Maintenance of the System:

5 U.S.C. 8474; 5 U.S.C. 3301; and 44 U.S.C. 3101.

Purpose(s):

The purpose of this system of records is to collect and maintain records on FRTIB contractors and consultants.

Routine Uses of Records Maintained in the System, Including Categories of Users and the Purposes of Such Uses:

Information about covered individuals may be disclosed without consent as permitted by the Privacy Act of 1974, as amended, 5 U.S.C. 552a(b); and:

1. General Routine Uses G1 through G2; and G4 through G16; apply to this system of records (see Prefatory Statement of General Routine Uses).

2. A record from this system of records may be disclosed to the United States Department of the Treasury to effect payments to consultants and vendors, or to verify consultants' and vendors' eligibility to receive payments.

Disclosure to Consumer Reporting Agencies:

None.

Policies and Practices for Storing, Retrieving, Accessing, Retaining, and Disposing of Records in the System:

Storage:

Records are maintained in paper and electronic form, including on computer databases, all of which are stored in a secure location.

Retrievability:

Contractor and consultant files are retrieved by any one or more of the following identifiers: Name of the contractor; name of the vendor or contractor; voucher number and date; or other unique identifier about whom they are maintained.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by unauthorized users that must be changed periodically.

Retention and Disposal:

Routine procurement files are retained for 6 years and 3 months, in accordance with the General Records Schedule 3, item 3. Procurement files involving investments and other information concerning the Thrift Savings Plan are retained for 99 years.

System Manager(s) and Address:

Division Chief, Contracting, Federal Retirement Thrift Investment Board, 77 K Street NE., Suite 1000, Washington, DC 20002.

Notification Procedure:

Individuals seeking to determine whether this system of records contains information about themselves must submit a written request to the FOIA Officer, FRTIB, 77 K Street NE., Washington, DC 20002, and provide the following information:

a. Full name;

b. Any available information regarding the type of record involved;

c. The address to which the record information should be sent; and

d. You must sign your request.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Information in this system of records is obtained from the individual to whom it applies or is derived from information supplied by the individual, except information provided by Board staff.

Exemptions Claimed for System:

None.

FRTIB-12

System Name:

Debt Collection Records.

Security Classification:

None.

System Location:

Records are maintained at the Federal Retirement Thrift Investment Board, 77 K Street NE., Suite 1000, Washington, DC 20002. Records may also be maintained at an additional location for Business Continuity Purposes.

Categories of Individuals Covered by the System:

Records are maintained on individuals and entities that are financially indebted to the Board, including, but not limited to: Participants, beneficiaries, and alternate payees of the Thrift Savings Plan; current and former employees of the FRTIB; individuals who are consultants and vendors to FRTIB; and individuals who received payments to which they are not entitled.

Categories of Records in the System:

Information varies depending on the individual debtor, the type of indebtedness, and the agency or program to which monies are owed. The system of records contains information including but not limited to: (1) Individuals and commercial organizations, such as name, Taxpayer Identification Number (i.e., Social Security Number or Employer Identification Number), business and home addresses, and business and home telephone numbers; (2) the indebtedness, such as the original amount of the debt, the date the debt originated, the amount of the delinquency/default, the date of the delinquency/default, basis of the debt, amounts accrued for interest, penalties, and administrative costs, and payments on the account; (3) actions taken to recover the debt, such as copies of demand letters/invoices, and documents required for the referral of accounts to collection agencies, or for litigation; (4) debtor and creditor agencies, such as name, telephone number, and address of the agency contact; (5) information for location purposes, including information pertaining to child support cases, Mandatory Victims Restitution Act (MVRA) cases, and tax levies; and (6) other relevant records relating to a debt including the amount, status, and history of the debt, and the program under which the debt arose.

Authority for Maintenance of the System:

5 U.S.C. 8474; 5 U.S.C. 301; 31 U.S.C. 3711(a); and 44 U.S.C. 3101.

Purpose(s):

The purpose of this system is to maintain a record of individuals and entities that are indebted to the Board, a Federal agency, or a Government corporation including, but not limited to: participants, beneficiaries, and alternate payees of the Thrift Savings Plan; current and former employees of the FRTIB; and individuals who received payments to which they are not entitled. The records ensure that: Appropriate collection action on debtors' accounts is taking and properly tracked, monies collected are credited, and funds are returned to the Board or appropriate agency at the time the account is collected or closed.

Routine Uses of Records Maintained in the System, Including Categories of Users and the Purposes of Such Uses:

Information about covered individuals may be disclosed without consent as permitted by the Privacy Act of 1974, as amended, 5 U.S.C. 552a(b); and:

1. General Routine Uses G1 through G16 apply to this system of records (see Prefatory Statement of General Routine Uses).

2. A record from this system may be disclosed to the Financial Management Service (FMS) of the Department of the Treasury to allow that agency to act for the Board to enforce collection of delinquent debts owed to the Board or the Thrift Savings Fund.

3. Debt collection records may be disclosed to the Internal Revenue Service for the purposes of: (1) Effecting an administrative offset against the debtor's tax refund to recover a delinquent debt owed the Board or the Thrift Savings Fund; or (2) obtaining the mailing address of a taxpayer/debtor in order to locate the taxpayer/debtor to collect or compromise a Federal claim against the taxpayer/debtor.

4. A record from this system may be disclosed to the Department of Justice for the purpose of litigating to enforce collection of a delinquent debt or to obtain the Department of Justice's concurrence in a decision to compromise, suspend, or terminate collection action on a debt with a principal amount in excess of $100,000 or such higher amount as the Attorney General may, from time to time, prescribe in accordance with 31 U.S.C. 3711(a).

5. Information contained within this system of records may be disclosed to the Department of the Treasury, Department of Defense, United States Postal Service, another Federal agency, a Government corporation, or any disbursing official of the United States for the purpose of effecting an administrative offset against Federal payments certified to be paid to the debtor to recover a delinquent debt owed to the Board, the Thrift Savings Fund, or another Federal agency or department by the debtor.

6. Debt collection information may be disclosed to a creditor Federal agency or Government corporation seeking assistance for the purpose of obtaining voluntary repayment of a debt or implementing Federal employee salary offset or administrative offset in the collection of an unpaid financial obligation.

7. Administrative wage garnishment information may be disclosed to the Treasury Department for the purpose of issuing wage garnishment orders to collect a debt owed to the FRTIB.

Disclosure to Consumer Reporting Agencies:

Debt information concerning claims of the Board and the Thrift Savings Fund may be furnished in accordance with 5 U.S.C. 552a(b)(12) and section 3 of the Debt Collection Act of 1982, as amended (31 U.S.C. 3701 et seq.), to consumer reporting agencies (as defined by the Fair Credit Reporting Act 15 U.S.C. 1681a(f)), to encourage repayment of an overdue debt.

Policies and Practices for Storing, Retrieving, Accessing, Retaining, and Disposing of Records in the System:

Storage:

Records are maintained in paper and electronic form, including on computer databases, all of which are stored in a secure location.

Retrievability:

These records are indexed and retrieved by the names, Social Security numbers, or contact numbers of participants, employees, contractors, or other persons who may receive monies paid to them by the Board.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by unauthorized users that must be changed periodically.

Retention and Disposal:

Hard-copy records are returned to the Board which has an agreement for servicing and collection of the debt with Financial Management Services. Files are destroyed when 10 years old, unless they are subject to litigation in which case they are destroyed when a court order requiring that the file be retained allows the file to be destroyed or litigation involving the files is concluded.

System Manager(s) and Address:

Director, Office of Participant Operations and Policy, Federal Retirement Thrift Investment Board, 77 K Street NE., Suite 1000, Washington, DC 20002.

Notification Procedure:

Individuals seeking to determine whether this system of records contains information about themselves must submit a written request to the FOIA Officer, FRTIB, 77 K Street NE., Washington, DC 20002, and provide the following information:

a. Full name;

b. Any available information regarding the type of record involved;

c. The address to which the record information should be sent; and

d. You must sign your request.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Information in this system of records is obtained from subject individuals; the individual entity; the Board; creditor agencies; Federal employing agencies; Government corporations; debt collection agencies or firms; credit bureaus, firms or agencies providing locator services; and Federal, state, and local agencies furnishing identifying information.

Exemptions Claimed for System:

None.

FRTIB-13

System Name:

Fraud and Forgery Records.

Security Classification:

None.

System Location:

Records are located at the Federal Retirement Thrift Investment Board, 77 K Street NE., Suite 1000, Washington, DC 20002. Records may also be kept at an additional location for Business Continuity purposes.

Categories of Individuals Covered by the System:

This system of records contains information on Thrift Savings Plan (TSP) participants, beneficiaries, alternate payees, and third party individuals alleged to have committed an act of fraud or forgery relating to participant and beneficiary accounts; and third parties alleged to have misappropriated, or attempted to misappropriate the FRTIB's (including the TSP's) name, brand, or logos.

Categories of Records in the System:

These records contain the following kinds of information: name, date of birth, and Social Security number of TSP participants, beneficiaries, alternate payees, and third parties alleged to have committed an act of fraud or forgery relating to participant accounts or the Thrift Savings Fund; TSP account information related to the fraud or forgery allegation; information obtained from other agencies as it relates to allegations of fraud or forgery; documentation of complaints and allegations of fraud and forgery; exhibits, statements, affidavits, or records obtained during investigations of fraud, or forgery, court and administrative orders, transcripts, and documents; internal staff memoranda; staff working papers; and other documents and records related to the investigation of fraud or forgery, including the disposition of the allegations; and reports on the investigation.

Authority for Maintenance of the System:

5 U.S.C. 8474; and 44 U.S.C. 3101.

Purpose(s):

These records are used to inquire into and investigate allegations that a TSP participant, beneficiary, alternate payee, or third party has committed or attempted to commit an act of fraud or forgery relating to a participant or beneficiary account or the Thrift Savings Fund; and to collect information to verify allegations that a third party has misappropriated the FRTIB's (or TSP's) name, brand, or logos.

Routine Uses of Records Maintained in the System, Including Categories of Users and the Purposes of Such Uses:

Information about covered individuals may be disclosed without consent as permitted by the Privacy Act of 1974, as amended, 5 U.S.C. 552a(b); and:

1. General Routine Uses G1 through G2; G4 through G5; G8 through G14; and G16 apply to this system of records (see Prefatory Statement of General Routine Uses);

2. Information used to verify allegations that a third party has misappropriated the FRTIB's (or TSP's) name, brand, or logos may be disclosed to the Federal Bureau of Investigation; Department of Justice; Securities and Exchange Commission; Federal Trade Commission; Consumer Financial Protection Bureau; or the Financial Industry Regulatory Authority for further investigation, prosecution, or enforcement;

3. A record from this system may be disclosed to the Secret Service for the purpose of investigating forgery, and to the Department of Justice, when substantiated by the Secret Service;

4. A record pertaining to this system may be disclosed to the current or former employing agency of the participant, beneficiary, alternate payee, or third party alleged to have committed fraud or forgery against a participant account or the Thrift Savings Fund for the purpose of further investigation or administrative action; and

5. A record from this system may be disclosed to informants, complainants, or victims to the extent necessary to provide those persons with information and explanations concerning the progress or results of the investigation.

Disclosure to Consumer Reporting Agencies:

None.

Policies and Practices for Storing, Retrieving, Accessing, Retaining, and Disposing of Records in the System:

Storage:

Records are maintained in paper and electronic form, including on computer databases, all of which are stored in a secure location.

Retrievability:

Records are retrieved by name or file number.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by authorized users that must be changed periodically.

Retention and Disposal:

Records in this system are destroyed seven years after the case is closed.

System Manager(s) and Address:

Supervisory Fraud Specialist, Federal Retirement Thrift Investment Board, 77 K Street NE., Suite 1000, Washington, DC 20002.

Notification Procedure:

Individuals seeking to determine whether this system of records contains information about themselves should submit a written request to the FOIA Officer, 77 K Street NE., Washington, DC 20002, and include the following information:

a. Full name;

b. Any available information regarding the type of record involved;

c. The address to which the record information should be sent; and

d. You must sign your request.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Records in this system may be provided by or obtained from the following: persons to whom the information relates when practicable, including TSP participants, beneficiaries, alternate payees, or other third parties; complainants; informants; witnesses; investigators; persons reviewing the allegations; Federal, state and local agencies; and investigative reports and records.

Exemptions Claimed for System:

Pursuant to 5 U.S.C. 552a(k)(2), records in this system of records are exempt from the requirements of subsections (c)(3); (d); (e)(1); (e)(4)(G), (H), (I); and (f) of 5 U.S.C. 552a, provided, however, that if any individual is denied any right, privilege, or benefit that he or she would otherwise be entitled to by federal law, or for which he or she would otherwise be eligible, as a result of the maintenance of these records, such material shall be provided to the individual, except to the extent that the disclosure of the material would reveal the identity of a source who furnished information to the Government with an express promise that the identity of the source would be held in confidence.

FRTIB-16

System Name:

Congressional Correspondence Files.

Security Classification:

None.

System Location:

Records are maintained at the Federal Retirement Thrift Investment Board, 77 K Street NE., Washington, DC 20002. Records may also be maintained at an additional location for Business Continuity Purposes.

Categories of Individuals Covered by the System:

Individuals who submit inquiries, complaints, comments, or other correspondence to FRTIB, and the responding party on behalf of FRTIB.

Categories of Records in the System:

Categories of records in this system include, but are not limited to the following information about individuals who have corresponded with FRTIB: Name; dates of birth; Social Security numbers; TSP account numbers; home and business address; email address; personal and business telephone numbers; who the correspondence is about; incoming correspondence; FRTIB's response; the FRTIB responder's name and business information; additional unsolicited personal information provided by the individual; and other related materials.

Authority for Maintenance of the System:

5 U.S.C. 8474; 5 U.S.C. 301; and 44 U.S.C. 3101.

Purpose(s):

This system of records is maintained to catalog and respond to correspondence received from congressional offices.

Routine Uses of Records Maintained in the System, Including Categories of Users and the Purposes of Such Uses:

Information about covered individuals may be disclosed without consent as permitted by the Privacy Act of 1974, as amended, 5 U.S.C. 552a(b); and:

1. General Routine Uses G1 through G2; G4 through G5; and G7 through G16 apply to this system of records (see Prefatory Statement of General Routine Uses).

2. A record from this system of records may be disclosed to another Federal agency to refer correspondence or refer to correspondence, given the nature of the issue.

3. Information in this system of records may be disclosed to the news media and the public, with the approval of the Senior Agency Official for Privacy, in consultation with counsel, when there exists a legitimate public interest in the disclosure of the information; when disclosure is necessary to preserve confidence in the integrity of FRTIB; or when it is necessary to demonstrate the accountability of FRTIB's officers, employees, or individuals covered by this system, except to the extent it is determined that the release of the specific information in the context of a particular case would constitute an unwarranted invasion of personal privacy.

Disclosure to Consumer Reporting Agencies:

None.

Policies and Practices for Storing, Retrieving, Accessing, Retaining, and Disposing of Records in the System:

Storage:

Records are maintained in paper and electronic form, including on computer databases, all of which are stored in a secure location.

Retrievability:

Records may be retrieved by individual name; the name of the Member of Congress requesting a response; and the date of the correspondence.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by unauthorized users that must be changed periodically.

Retention and Disposal:

System Manager(s) and Address:

Director, Office of External Affairs, Federal Retirement Thrift Investment Board, 77 K Street NE., Suite 1000, Washington, DC 20002.

Notification Procedure:

Individuals seeking to determine whether this system of records contains information about themselves must submit a written request to the FOIA Officer, FRTIB, 77 K Street NE., Washington, DC 20002, and provide the following information:

a. Full name;

b. Any available information regarding the type of record involved;

c. The address to which the record information should be sent; and

d. You must sign your request.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Information used to compile records in this system is taken from incoming correspondence and FRTIB responses to incoming correspondence from congressional offices.

Exemptions Claimed for System:

None.

FRTIB-17

System Name:

Telework and Alternative Worksite Records.

Security Classification:

None.

System Location:

Records are maintained at the Federal Retirement Thrift Investment Board, 77 K Street NE., Suite 1000, Washington, DC 20002. Records may also be maintained at an additional location for Business Continuity Purposes.

Categories of Individuals Covered by the System:

Prospective, current, and former FRTIB employees who have been granted or denied authorization to participate in FRTIB's Telework Program to work at an alternative worksite apart from their official FRTIB duty station.

Categories of Records in the System

Name, position title, grade level, job series, and office name; official FRTIB duty station address and telephone number; alternative worksite address and telephone number(s); date telework agreement received and approved/denied; telework request and approval form; telework agreement; self-certification home safety checklist, and supervisor-employee checklist; type of telework requested (e.g., situational or core); regular work schedule; telework schedule; approvals/disapprovals; description and list of government-owned equipment and software provided to the teleworker; mass transit benefits received through FRTIB's mass transit subsidy program; parking subsidies received through FRTIB's subsidized parking program; and any other miscellaneous documents supporting telework.

Authority for Maintenance of the System:

5 U.S.C. 8474; 5 U.S.C. 301; 5 U.S.C. 6120; and 44 U.S.C. 3101.

Purpose(s):

The purpose of this system of records is to collect and maintain records on prospective, current, and former FRTIB employees who have participated in, presently participate in, or have sought to participate in FRTIB's Telework Program.

Routine Uses of Records Maintained in the System, Including Categories of Users and the Purposes of Such Uses:

Information about covered individuals may be disclosed without consent as permitted by the Privacy Act of 1974, as amended, 5 U.S.C. 552a(b); and:

1. General Routine Uses G1 through G2; G4 through G5; and G7 through G16 apply to this system of records (see Prefatory Statement of General Routine Uses).

2. A record from this system may be disclosed to medical professionals to obtain information about an employee's medical background necessary to grant or deny approval of medical telework.

3. A record from this system may be disclosed to federal, state, or local governments during actual emergencies, exercises, or Business Continuity Purpose tests for emergency preparedness and disaster recovery training exercises.

4. A record from this system may be disclosed to the Department of Labor when an employee is injured when working at home while in the performance of normal duties.

5. A record from this system may be disclosed to the Office of Personnel Management (OPM) for use in its Telework Survey to provide consolidated data on participation in FRTIB's Telework Program.

6. A record from this system of records may be disclosed to appropriate third-parties contracted by FRTIB to facilitate mediation or other alternate dispute resolution procedures or programs.

Disclosure to Consumer Reporting Agencies:

None.

Policies and Practices for Storing, Retrieving, Accessing, Retaining, and Disposing of Records in the System:

Storage:

Records are maintained in paper and electronic form, including on computer databases, all of which are stored in a secure location.

Retrievability:

Records are retrieved by any one or more of the following: Employee name; and the office in which the employee works, will work, or previously worked.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by unauthorized users that must be changed periodically.

Retention and Disposal:

Records are maintained in accordance with the General Records Retention Schedule 1, item 42, issued by the National Archives and Records Administration (NARA).

System Manager(s) and Address:

Human Resources Officer, 77 K Street NE., Suite 1000, Washington, DC 20002.

Notification Procedure:

Individuals seeking to determine whether this system of records contains information about themselves must submit a written request to the FOIA Officer, FRTIB, 77 K Street NE., Washington, DC 20002, and provide the following information:

a. Full name;

b. Any available information regarding the type of record involved;

c. The address to which the record information should be sent; and

d. You must sign your request.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Subject individuals; subject individuals' supervisors.

Exemptions Claimed for System:

None.

FRTIB-18

System Name:

Reasonable Accommodation Records.

Security Classification:

None.

System Location:

Records are maintained at the Federal Retirement Thrift Investment Board, 77 K Street NE., Washington, DC 20002. Records may also be maintained at an additional location for Business Continuity Purposes.

Categories of Individuals Covered by the System:

Prospective, current, and former FRTIB employees who request and/or receive a reasonable accommodation for a disability; and authorized individuals or representatives (e.g., family members or attorneys) who file a request for a reasonable accommodation on behalf of a prospective, current, or former employee.

Categories of Records in the System:

Name and employment information of employees needing an accommodation; requestor's name and contact information (if different than the employee who needs an accommodation); date request was initiated; information concerning the nature of the disability and the need for accommodation, including appropriate medical documentation; details of the accommodation request, such as: Type of accommodation requested, how the requested accommodation would assist in job performance, the sources of technical assistance consulted in trying to identify alternative reasonable accommodation, any additional information provided by the requestor related to the processing of the request, and whether the request was approved or denied, and whether the accommodation was approved for a trial period; and notification(s) to the employee and his/her supervisor(s) regarding the accommodation.

Authority for Maintenance of the System:

5 U.S.C. 8474; 5 U.S.C. 301; 42 U.S.C. 12101 et seq.; 44 U.S.C. 3101; Executive Order 13164 (July 28, 2000); and Executive Order 13548 (July 10, 2010).

Purpose(s):

The purpose of this system is to: (1) Allow FRTIB to collect and maintain records on prospective, current, and former employees with disabilities who request or receive a reasonable accommodation by FRTIB; (2) to track and report the processing of requests for FRTIB-wide reasonable accommodations to comply with applicable laws and regulations; and (3) to preserve and maintain the confidentiality of medical information submitted by or on behalf of applicants or employees requesting a reasonable accommodation.

Routine Uses of Records Maintained in the System, Including Categories of Users and the Purposes of Such Uses:

Information about covered individuals may be disclosed without consent as permitted by the Privacy Act of 1974, as amended, 5 U.S.C. 552a(b); and:

1. General Routine Uses G1 through G5; and G7 through G16 apply to this system of records (see Prefatory Statement of General Routine Uses).

2. A record from this system of records may be disclosed to physicians or other medical professionals to provide them with or obtain from them the necessary medical documentation and/or certification for reasonable accommodations.

3. A record from this system of records may be disclosed to another federal agency or commission with responsibility for labor or employment relations or other issues, including equal employment opportunity and reasonable accommodation issues, when that agency or commission has jurisdiction over reasonable accommodation issues.

4. A record from this system of records may be disclosed to the Department of Labor (DOL), Office of Personnel Management (OPM), Equal Employment Opportunity Commission (EEOC), or Office of Special Counsel (OSC) to obtain advice regarding statutory, regulatory, policy, and other requirements related to reasonable accommodation.

5. A record from this system of records may be disclosed to appropriate third-parties contracted by the Agency to facilitate mediation or other alternative dispute resolution procedures or programs.

6. A record from this system of records may be disclosed to the Department of Defense (DOD) for the purpose of procuring assistive technologies and services through the Computer/Electronic Accommodation Program in response to a request for reasonable accommodation.

Disclosure to Consumer Reporting Agencies:

None.

Policies and Practices for Storing, Retrieving, Accessing, Retaining, and Disposing of Records in the System:

Storage:

Records are maintained in paper and electronic form, including on computer databases, all of which are stored in a secure location.

Retrievability:

Records are retrieved by any one or more of the following: employee name or assigned case number.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by unauthorized users that must be changed periodically.

Retention and Disposal:

These records are maintained in accordance with the General Records Retention Schedule 1, item 24, issued by the National Archives and Records Administration (NARA).

System Manager(s) and Address:

Human Resources Officer, 77 K Street NE., Washington, DC 20002.

Notification Procedure:

Individuals seeking to determine whether this system of records contains information about themselves must submit a written request to the FOIA Officer, FRTIB, 77 K Street NE., Washington, DC 20002, and provide the following information:

a. Full name;

b. Any available information regarding the type of record involved;

c. The address to which the record information should be sent; and

d. You must sign your request.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Subject individuals; individual making the request (if different than the subject individual); medical professionals; and the subject individuals' supervisor(s).

Exemptions Claimed for System:

None.

FRTIB-19

System Name:

Freedom of Information Act Records

Security Classification:

None.

System Location:

Records in this system are maintained at the Federal Retirement Thrift Investment Board, 77 K Street NE., Washington, DC 20002. Records may be maintained at an additional location for Business Continuity Purposes.

Categories of Individuals Covered by the System:

This system of records covers all individuals who submit requests pursuant to the Freedom of Information Act (FOIA); individuals whose requests and/or records have been referred to FRTIB by other agencies; attorneys or other persons representing individuals submitting such requests and appeals; individuals who are the subjects of such requests and appeals; individuals who file litigation based on their requests; Department of Justice (DOJ) and other government litigators; and/or FRTIB employees assigned to handle such requests or appeals.

Categories of Records in the System:

Records in this system include, but are not limited to: (1) Records received, created, or compiled in processing FOIA requests or appeals, including original requests and appeals, intra- or inter-agency memoranda, referrals, correspondence notes, fee schedules, assessments, cost calculations, and other documentation related to the referral and/or processing of the FOIA request or appeal, correspondence with the individuals or entities that submitted the requests, and copies of requested records; (2) the type of information in the records may include requestors' and their attorneys' or representatives' contact information, the contact information of FRTIB employees, the name of the individual subject of the request or appeal, fee determinations, unique case identifier, and other identifiers provided by a requestor about him or herself or about the individual whose records are requested.

Authority for Maintenance of the System:

5 U.S.C. 8474; 5 U.S.C. 552; and 44 U.S.C. 3101.

Purpose(s):

The purpose of this system is to support the processing of record access requests made pursuant to the FOIA, whether FRTIB receives such requests directly from the requestor or via referral from another agency. In addition, this system is used to support litigation arising from such requests and appeals, and to assist FRTIB in carrying out any other responsibilities under the FOIA.

Routine Uses of Records Maintained in the System, Including Categories of Users and the Purposes of Such Uses:

Information about covered individuals may be disclosed without consent as permitted by the Privacy Act of 1974, as amended, 5 U.S.C. 552a(b); and:

1. General Routine Uses G1 through G2; and G4 through G16 apply to this system of records (see Prefatory Statement of General Routine Uses).

2. A record from this system of records may be disclosed to a federal agency or other federal entity that furnished the record or information for the purpose of permitting that agency or entity to make a decision regarding access to or correction of the record or information, or to a federal agency or entity for purposes of providing guidance or advice regarding the handling of a particular request.

3. A record from this system of records may be disclosed to the Department of Justice (DOJ) to obtain advice regarding statutory and other requirements under the FOIA.

4. A record from this system of records may be disclosed to the National Archives and Records Administration, Office of Government Information Services (OGIS), to the extent necessary to fulfill its responsibilities in 5 U.S.C. 552(h) to review administrative agency policies, procedures, and compliance with the FOIA, and to facilitate OGIS's offering of mediation services to resolve disputes between persons making FOIA requests and administrative agencies.

Disclosure to Consumer Reporting Agencies:

None.

Policies and Practices for Storing, Retrieving, Accessing, Retaining, and Disposing of Records in the System:

Storage:

Records are maintained in paper and electronic form, including on computer databases, all of which are stored in a secure location.

Retrievability:

Records are retrieved by any one or more of the following: The name of the requestor; the number assigned to the request or appeal; and in some instances, the name of the attorney representing the requestor or appellant, and/or the name of an individual who is the subject of such a request or appeal.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by unauthorized users that must be changed periodically.

Retention and Disposal:

Records are retained and disposed of in accordance with the General Records Schedule 4.2, item 020, issued by the National Archives and Records Administration (NARA).

System Manager(s) and Address:

Chief FOIA Officer, 77 K Street NE., Washington, DC 20002.

Notification Procedure:

Individuals seeking to determine whether this system of records contains information about themselves must submit a written request to the FOIA Officer, FRTIB, 77 K Street NE., Washington, DC 20002, and provide the following information:

a. Full name;

b. Any available information regarding the type of record involved;

c. The address to which the record information should be sent; and

d. You must sign your request.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Records are obtained from those individuals who submit requests and administrative appeals pursuant to the FOIA or who file litigation regarding such requests and appeals; the agency record keeping systems searched in the process of responding to such requests and appeals; FRTIB employees assigned to handle such requests, appeals, and/or litigation; other agencies or entities that have referred to FRTIB requests concerning FRTIB records, or that have consulted with FRTIB regarding handling of particular requests; and submitters or subjects of records or information that have provided assistance to FRTIB in making access or amendment determinations.

Exemptions Claimed for System:

None.

[FR Doc. 2016-02673 Filed 2-9-16; 8:45 am]

BILLING CODE 6760-01-P